ENVIRONMENTAL PROTECTION AGENCY

[ER-FRL-8591-4]

Environmental Impact Statements; Notice of Availability

Responsible Agency: Office of Federal Activities, General Information (202) 564-1399 or http://www.epa.gov/compliance/nepa/.

Weekly receipt of Environmental Impact Statements Filed 03/09/2009 through 03/13/2009.

Pursuant to 40 CFR 1506.9.

EIS No. 20090066, Draft EIS, AFS, OR, Tracy Placer Mining Project, Proposing Mine Development on a Portion of the Unpatented Cedar Gulch Group Placer Claim, Plan-of-Operations, Wild Rivers Ranger District, Rogue River-Siskiyou National Forest, Josephine County, OR, Comment Period Ends: 05/04/2009, Contact: John Wells, 541-951-5932.

EIS No. 20090067, Draft Supplement, FHW, TX, Trinity Parkway Project, New and Additional Information, Construction of a Six-Lane Controlled Access Toll Facility from IH-35 E/TX-183 to US-175/TX-310, U.S. Army COE Section 10 and 404 Permits, Dallas County, TX, Comment Period Ends: 05/04/2009, Contact: Salvador Deocampo 512-536-5950.

EIS No. 20090068, Final EIS, AFS, AK, Angoon Hydroelectric Project, Construction and Operation, Special-Use-Authorization, Thayer Creek, Admiralty Island National Monument, Tongass National Forest, AK, Wait Period Ends: 04/20/2009, Contact: Pete Griffin, 907-789-6244.

EIS No. 20090069, Draft EIS, AFS, 00, Black Hills National Forest Travel Management Plan, Proposes to Designate Certain Roads and Trails Open to Motorized Travel, Custer, Fall River, Lawrence, Meade, Pennington Counties, SD and Crook and Weston Counties, WY, Comment Period Ends: 05/04/2009, Contact: Ed Fischer, 605-673-9207.

EIS No. 20090070, Draft Supplement, AFS, CA, Pilgrim Vegetation Management Project, Updated Information to Address and Respond to the Specific Issues Identified in the Court Ruling. Implementation, Shasta-Trinity National Forest, Siskiyou County, CA, Comment Period Ends: 05/04/2009, Contact: Dennis Poehlmann, 530-926-9656.

EIS No. 20090071, Draft EIS, FHW, OH, Cleveland Innerbelt Project, Proposing Major Rehabilitation and Reconstruction between I-71 and I-90, Cleveland Central Business District, Funding, City of Cleveland, Cuyahoga County, OH, Comment Period Ends: 05/21/2009, Contact: Craig K. Hebebrand, 216-584-2113.

EIS No. 20090072, Final EIS, USN, 00, Jacksonville Range Complex Project, To Support and Conduct Current and Emerging Training and RDT&E Operations, NC, SC, GA and FL, Wait Period Ends: 04/20/2009, Contact: Karen Foskey, 703-602-2859.

EIS No. 20090073, Final EIS, USN, 00, Virginia Capes (VACAPES) Range Complex, Proposed action is to Support and Conduct Current and Emerging Training and RDT & E Operations, Chesapeake Bay, DE, MD, VA and NC, Wait Period Ends: 04/20/2009, Contact: Karen Foskey, 703-602-2859.

EIS No. 20090074, Final EIS, FAA, OH, Port Columbus International Airport/ (CMH) Project, Replacement of Runway 10R/28L, Development of a New Passenger Terminal and other Associated Airport Projects, Funding, City of Columbus, OH, Wait Period Ends: 04/20/2009, Contact: Katherine Delaney, 734-229-2958.

EIS No. 20090075, Final EIS, NPS, CA, Golden Gate National Recreation Area, Proposed Marin Headlands and Fort Baker Transportation Infrastructure and Management Plan, Implementation, Marin County, CA, Wait Period Ends: 04/20/2009, Contact: Steve Ortega, 415-561-4841.

EIS No. 20090076, Draft EIS, SFW, CA, Paiute Cutthroat Trout Restoration Project, Eradication of Non-Native Trout Species from 11 Stream Miles of Silver King Creek, Alpine County, CA, Comment Period Ends: 05/04/2009, Contact: Chad Mellison, 775-861-6300.

EIS No. 20090077, Final EIS, FRC, CA, Big Creek Hydro Project (FERC Nos. 67, 120, 2085, and 2175) Proposes to Relicenses, Big Creek Nos.2A,8 and Eastwood—FERC No. 67; Big Creek Nos. 1 and 2—FERC No. 2175; Mammoth Pool—FERC No. 2085 and Big Creek No. 3 FERC No. 120, Fresno and Madera Counties, CA, Wait Period Ends: 04/20/2009, Contact: Patricia Schaub, 1-866-208-3372.

EIS No. 20090078, Final EIS, NIH, MT, Rocky Mountain Laboratories (RML) Master Plan, Implementation, Hamilton, Ravalli County, MT, Wait Period Ends: 04/20/2009, Contact: Mark Radtke, 301-451-6467.

Amended Notices

EIS No. 20080406, Final EIS, BIA, MT,Absaloka Mine Crow Reservation South Extension Coal Lease Approval, Proposed Mine Development Plan, and Related Federal and State Permitting Actions, Crow Indian Reservation, Crow Tribe, Bighorn County, MT.

The U.S. Environmental Protection Agency's (EPA) has ADOPTED the U.S. Department of Interior's, Bureau of Indian Affairs (DOI/BIA) FEIS #20080406 filed 10/02/2008. EPA was a Cooperating Agency for the above project. Recirculation of the FEIS is not necessary under 40CFR 1506.3(c). If you have any questions, please contact Greg Davis at davis.gregory@epa.gov or 303-312-6314.

EIS No. 20080528, Draft EIS, USN, 00, Northwest Training Range Complex (NWTRC), To Support and Conduct Current, Emerging, and Future Training and Research, Development, Test and Evaluation (RDT&E) Activities, WA, OR and CA, Comment Period Ends: 04/13/2009, Contact: Kimberly Kler, 360-396-0927.

Revision to FR Notice Published 12/29/2008: Extending the Comment Period from 03/11/2009 to 04/13/2009.

EIS No. 20080530, Draft EIS, MMS, AK, Beaufort Sea and Chukchi Sea Planning Areas, Proposals for Oil and Gas Lease Sales 209, 212, 217, and 221, Offshore Marine Environment, Beaufort Sea Outer Continental Shelf, and North Slope Borough of Alaska, Comment Period Ends: 03/30/2009, Contact: Keith Gordon 907-334-5265.

Revision of the FR Published 12/29/2008: Extending Comment Period from 03/16/2009 to 03/30/2009.

EIS No. 20080540, Draft EIS, AFS, ID, Nez Perce National Forest (NPNF), Proposed Designated Routes and Areas for Motor Vehicle Use (DRMVU), Implementation, Idaho County, ID, Comment Period Ends: 04/20/2009, Contact: Alexandra Botello, 208-983-1950.

Revision to FR Notice Published 01/02/2009: Extending Comment Period from 02/25/2009 to 04/20/2009.

EIS No. 20090062, Draft EIS, FRC, 00, Catawba-Wateree Hydroelectric Project (FERC No. 2232), Application for Hydroelectric License, Catawba and Wateree Rivers in Burke, McDowell, Caldwell, Catawba, Alexander, Iredell, Mecklenburg, Lincoln and Gaston Counties, NC and York, Lancaster, Chester, Fairfield and Kershaw Counties, SC, Comment Period Ends: 05/08/2009, Contact: Patricia Schaub, 1-866-208-3372.

Revision to FR Notice Published 03/13/2009: Correction to Comment Period from 04/27/09 to 05/08/09.

Dated: March 17, 2009.
Robert W. Hargrove,
Director, NEPA Compliance Division, Office of Federal Activities.

[FR Doc. E9-6158 Filed 3-19-09; 8:45 am]

BILLING CODE 6560-50-P